DEPARTMENT OF THE TREASURY

Internal Revenue Service

26 CFR Part 301

[REG-148951-05]

RIN 1545-BF54

Change to Office To Which Notices of Nonjudicial Sale and Requests for Return of Wrongfully Levied Property Must Be Sent; Correction

AGENCY: Internal Revenue Service (IRS), Treasury.

ACTION: Correction to notice of proposed rulemaking by cross-reference to temporary regulations.

SUMMARY: This document contains corrections to notice of proposed rulemaking by cross-reference to temporary regulations that was published in the Federal Register on Friday, July 20, 2007 relating to the discharge of liens under section 7425 and return of wrongfully levied property under section 6343.

FOR FURTHER INFORMATION CONTACT: Robin M. Ferguson at (202) 622-3630.

SUPPLEMENTARY INFORMATION:

Background

The notice of proposed rulemaking by cross-reference to temporary regulations (REG-148951-05) that is the subject of these corrections is under sections 7425 and 6343 of the Internal Revenue Code.

Need for Correction

As published, the notice of proposed rulemaking by cross-reference to temporary regulations (REG-148951-05) contains errors that may prove to be misleading and are in need of clarification.

Correction of Publication

Accordingly, the notice of proposed rulemaking by cross-reference to temporary regulations (REG-148951-05) that was the subject of FR. Doc. E7-14051 is corrected as follows:

1. On page 39771, column 3, in the preamble, under the caption “FOR FURTHER INFORMATION CONTACT:”, line 1, the language “Robin M. Ferguson, (202) 622-3610; is corrected to read “Robin M. Ferguson, (202) 622-3630;”.

2. On page 39772, column 1, in the preamble, under paragraph heading “Drafting Information”, lines 4 and 5, the language “and Administration (Collection, Bankruptcy and Summonses Division)” should be corrected to read “and Administration.”

LaNita Van Dyke,
Branch Chief, Publications and Regulations Branch, Legal Processing Division, Associate Chief Counsel (Procedure and Administration).

[FR Doc. E7-16624 Filed 8-22-07; 8:45 am]

BILLING CODE 4830-01-P